DEPARTMENT OF COMMERCE

National Institute of Standards and Technology

Information Collection Activities; Submission to the Office of Management and Budget for Review and Approval; Comment Request; National Voluntary Laboratory Accreditation Program Information Collection System

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 30, 2021 during a 60-day comment period. This notice allows for an additional 30 days for public comments.

Agency: National Institute of Standards and Technology (NIST), Commerce.

Title: National Voluntary Laboratory Accreditation Program (NVLAP) Information Collection System.

OMB Control Number 0693-0003.

Form Number(s): None.

Type of Request: Regular, revision of a currently approved information collection.

Number of Respondents: 650.

Average Hours per Response: 3 hours.

Burden Hours: 1,950.

Needs and Uses: This information is collected from all testing and calibration laboratories that apply for National Voluntary Laboratory Accreditation Program (NVLAP) accreditation. It is used by NVLAP to assess laboratory conformance with applicable criteria as defined in 15 CFR part 285, Section 285.14. The information provides a service to customers in business and industry, including regulatory agencies and purchasing authorities that are seeking competent laboratories to perform testing and calibration services. An accredited laboratory's contact information and scope of accreditation are provided on NVLAP's website (http://www.nist.gov/nvlap).

Affected Public: Business or other for-profit organizations; not-for-profit institutions; and Federal, State or local government.

Frequency: Annually.

Respondent's Obligation: Required to obtain or retain benefits.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0693-0003.

Sheleen Dumas,
Department PRA Clearance Officer, Office of the Chief Information Officer, Commerce Department.

[FR Doc. 2021-27386 Filed 12-16-21; 8:45 am]

BILLING CODE 3510-13-P